NUCLEAR REGULATORY COMMISSION

[NRC-2014-0045]

Biweekly Notice; Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 5 to March 18, 2014. The last biweekly notice was published on March 4, 2014 (79 FR 12241).

ADDRESSES: You may submit comments by any of the following methods (unless this document describes a different method for submitting comments on a specific subject):

• Federal Rulemaking Web site: Go to http://www.regulations.gov and search for Docket ID NRC-2014-0045. Address questions about NRC dockets to Carol Gallagher; telephone: 301-287-3422; email: Carol.Gallagher@nrc.gov. For technical questions, contact the individual listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2014-0045 when contacting the NRC about the availability of information regarding this document. You may access publicly-available information related to this action by the following methods:

• Federal Rulemaking Web site: Go to http://www.regulations.gov and search for Docket ID NRC-2014-0045.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0045 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/;, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Entergy Nuclear Operations, Inc., Docket No. 50-247, Indian Point Nuclear Generating, Unit 2, Westchester County, New York

Date of amendment request: January 16, 2014.

Description of amendment request: The proposed amendment would revise Technical Specification (TS) 5.5.7, “Steam Generator (SG) Program,” to exclude portions of the SG tube below the top of the SG tubesheet from periodic inspections and plugging by implementing the H* alternate repair criteria. In addition, TS 5.6.7, “Steam Generator Tube Inspection Report,” would also be revised to include additional reporting requirements.

Basis for proposed no significant hazards consideration determination: As required by 10 CFR 50.91(a), the licensee has provided its analysis of the issue of no significant hazards consideration, which is presented below:

1. Does the proposed amendment involve a significant increase in the probability or consequences of an accident previously evaluated?

Response: No.

The proposed change excludes the lower portion of steam generator tubes from inspection by implementing the alternate repair criteria H* and does not have a detrimental impact on the integrity of any plant structure, system, or component that initiates an analyzed event. The proposed change has no significant effect upon accident probabilities or consequences.

Of the applicable accidents previously evaluated, the limiting transients with consideration to the proposed change to the steam generator tube inspection and repair criteria are the steam generator tube rupture (SGTR), the main steam line break (MSLB), Locked Rotor and Control Rod Ejection.

At normal operating pressures, leakage from Primary Water Stress Corrosion Cracking (PWSCC) below the proposed limited inspection depth is limited by both the tube-to-tubesheet crevice and the limited crack opening permitted by the tubesheet constraint. Consequently, negligible normal operating leakage is expected from cracks within the tubesheet region.

For the SGTR event, the required structural integrity margins of the steam generator tubes and the tube-to-tubesheet joint over the H* distance will be maintained. Tube rupture in tubes with cracks within the tubesheet is precluded by the constraint provided by the tube-to-tubesheet joint. This constraint results from the hydraulic expansion process, thermal expansion mismatch between the tube and tubesheet, and from the differential pressure between the primary and secondary side. The structural margins against burst, as discussed in Regulatory Guide (RG) 1.121, “Bases for Plugging Degraded PWR Steam Generator Tubes,” (Reference 11) and NEI 97-06, “Steam Generator Program Guidelines” (Reference 3) are maintained for both normal and postulated accident conditions. Therefore, the proposed change results in no significant increase in the probability of the occurrence of a SGTR accident.

The probability of a Steam Line Break, Locked Rotor, and Control Rod Ejection are not affected by the potential failure of a SG tube, as the failure of a tube is not an initiator for any of these events. In the supporting Westinghouse analyses, leakage is modeled as flow through a porous medium via the use of the Darcy equation. The leakage model is used to develop a relationship between allowable leakage and leakage at accident conditions that is based on differential pressure across the tubesheet and the viscosity of the fluid. A leak rate ratio was developed to relate the leakage at operating conditions to leakage at accident conditions. The fluid viscosity is based on fluid temperature and it has been shown that for the most limiting accident, the fluid temperature does not exceed the normal operating temperature. Therefore, the viscosity ratio is assumed to be 1.0 and the leak rate ratio is a function of the ratio of the accident differential pressure and the normal operating differential pressure.

The leakage factor of 1.75 for IP2 for a-postulated MSLB, has been calculated as shown in the supporting Westinghouse analysis. IP2 [Indian Point Unit 2] will apply a factor of 1.75 to the normal operating leakage associated with the tubesheet expansion region in the Condition Monitoring Assessment and Operational Assessment. Through application of the limited tubesheet inspection scope, the administrative leakage limit of 75 gpd [gallons per day] provides assurance that excessive leakage (i.e., greater than accident analysis assumptions) will not occur. No leakage factor will be applied to the Locked Rotor or Control Rod Ejection due to their short duration, since the calculated leak rate ratio is less than 1.0. Therefore, the proposed change does not result in a significant increase in the consequences of these accidents.

For the Condition Monitoring Assessment, the component of leakage from the prior cycle from below the H* distance will be multiplied by a factor of 1.75 and added to the total leakage from any other source and compared to the allowable MSLB leakage limit. For the Operational Assessment, the difference in the leakage between the allowable leakage and the accident induced leakage from sources other than the tubesheet expansion region will be divided by 1.75 and compared to the observed operational leakage. As noted above, an administrative limit of 75 gpd has been established at IP2 to assure that the allowable accident induced leakage is not exceeded.

Based on the above, the performance criteria of NEI 97-06 and Regulatory Guide (RG) 1.121 continue to be met and the proposed change does not involve a significant increase in the probability or consequences of an accident previously evaluated.

2. Does the proposed amendment create the possibility of a new or different kind of accident from any accident previously evaluated?

Response: No.

The proposed change excludes the lower portion of steam generator tubes from inspection by implementing the alternate repair criteria (H*). The proposed change does not introduce any new equipment, create new failure modes for existing equipment, or create any new limiting single failures resulting from tube degradation. The proposed change does not affect the design of the SGs or their method of operation. In addition, the proposed change does not impact any other plant system or component. Plant operation will not be altered, and all safety functions will continue to perform as previously assumed in accident analyses.

Therefore, the proposed change does not create the possibility of a new or different kind of accident from any previously evaluated.

3. Does the proposed amendment involve a significant reduction in a margin of safety?

Response: No.

The proposed change defines the safety significant portion of the SG tubing that must be inspected and repaired. WCAP-17828-P identifies the inspection depth below which any type of degradation is shown to have no impact on the steam generator tube integrity performance criteria in NEI 97-06. The proposed change does not affect tube design or operating environment. The proposed change will continue to require monitoring of the physical condition of the SG tubes but will limit inspection within the tubesheet to the portion of the tube from the top of the tubesheet to a distance H* below the top of the tubesheet.

The proposed change maintains the required structural margins of the SG tubes for both normal and accident conditions. For axially oriented cracking located within the tubesheet, tube burst is precluded due to the presence of the tubesheet. For circumferentially oriented cracking, the supporting Westinghouse analyses define a length of degradation-free expanded tubing that provides the necessary resistance to tube pullout due to the pressure induced forces, with applicable safety factors applied. Application of the limited hot and cold leg tubesheet inspection criteria will preclude unacceptable primary to secondary leakage during all plant conditions. The MSLB leak rate factor for IP2 is 1.75. Multiplying the IP2 administrative leak rate limit of 75 gpd/SG by this factor shows that the primary-to-secondary leak rate during a postulated SLB is not exceeded.

Therefore, the proposed change does not involve a significant reduction in any margin of safety.

Based on the above, Entergy concludes that the proposed amendment to the Indian Point 2 Technical Specifications presents no significant hazards consideration under the standards set forth in 10 CFR 50.92(c), and accordingly, a finding of `no significant hazards consideration' is justified.

The NRC staff has reviewed the licensee's analysis and, based on this review, it appears that the three standards of 10 CFR 50.92(c) are satisfied. Therefore, the NRC staff proposes to determine that the amendment request involves no significant hazards consideration.

Attorney for licensee: Jeanne Cho, Assistant General Counsel, Entergy Nuclear Operations, Inc., 440 Hamilton Avenue, White Plains, NY 10601.

NRC Branch Chief: Benjamin G. Beasley.

Entergy Nuclear Operations, Inc., Docket No. 50-255, Palisades Nuclear Plant, Van Buren County, Michigan

Date of amendment request: June 25, 2013, supplemented by letter dated August 7, 2013.

Description of amendment request: The proposed amendment would revise Palisades Nuclear Plant Site Emergency Plan (SEP) to increase the staff augmentation response times for certain Emergency Response Organization positions from 30 to 60 minutes. Entergy Nuclear Organization has reviewed the proposed changes against the standards in § 50.47(b) and the requirements in 10 CFR Part 50, Appendix E.

Basis for proposed no significant hazards consideration determination: As required by 10 CFR 50.91(a), the licensee has provided its analysis of the issue of no significant hazards consideration, which is presented below:

1. Does the proposed change involve a significant increase in the probability or consequences of an accident previously evaluated?

Response: No.

The proposed extension of staff augmentation times has no effect on normal plant operation or on any accident initiator. The change affects the response to radiological emergencies under the Palisades Nuclear Plant SEP. The ability of the emergency response organization to respond adequately to radiological emergencies has been evaluated. Changes in the on-shift organization, such as the addition of staff and reassignment of key on-shift emergency response functions, provide assurance of emergency response without competing or conflicting duties. An analysis was also performed on the effect of the proposed change on the timeliness of performing major tasks for the major functional areas of the SEP. The analysis concluded that extension of staff augmentation times would not significantly affect the ability to perform the required tasks.

Therefore, the proposed change does not involve a significant increase in the probability or consequences of an accident previously evaluated.

2. Does the proposed change create the possibility of a new or different kind of accident from any accident previously evaluated?

Response: No.

The proposed change affects the required response times for supplementing onsite personnel in response to a radiological emergency. It has been evaluated and determined not to significantly affect the ability to perform that function. It has no effect on the plant design or on the normal operation of the plant and does not affect how the plant is physically operated under emergency conditions. The extension of staff augmentation times in the SEP does not affect the plant operating procedures which are performed by plant staff during all plant conditions.

Therefore, the proposed change does not create the possibility of a new or different kind of accident from any previously evaluated.

3. Does the proposed change involve a significant reduction in a margin of safety?

Response: No.

The proposed change does not affect plant design or method of operation. Section 50.47(b) and 10 CFR Part 50, Appendix E establish emergency planning standards and requirements that require adequate staffing, satisfactory performance of key functional areas and critical tasks, and timely augmentation of the response capability. Since the SEP was originally developed, there have been improvements in the technology used to support the SEP functions and in the capabilities of onsite personnel. A functional analysis was performed on the effect of the proposed change on the timeliness of performing major tasks for the functional areas of SEP. The analysis concluded that an increase in staff augmentation times would not significantly affect the ability to perform the required SEP tasks. Thus, the proposed change has been determined not to adversely affect the ability to meet the emergency planning standards as described in 10 CFR 50.47(b) and requirements in 10 CFR Part 50, Appendix E.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William Dennis, Assistant General Counsel, Entergy Nuclear Operations, Inc., 440 Hamilton Ave., White Plains, NY 10601.

NRC Branch Chief: Robert D. Carlson.

Entergy Nuclear Operations, Inc., Docket No. 50-255, Palisades Nuclear Plant, Van Buren County, Michigan

Date of amendment request: December 11, 2013.

Description of amendment request: The proposed amendment would modify Palisades Nuclear Plant technical specifications (TS) requirements for unavailable barriers by adding limiting condition for operation (LCO) 3.0.9. The changes are consistent with the NRC's approved industry/Technical Specification Task Force (TSTF) Standard Technical Specification (STS) change TSTF-427, “Allowance for Non-Technical Specification Barrier Degradation on Supported System OPERABILITY,” Revision 2.

Basis for proposed no significant hazards consideration determination: The licensee has affirmed the applicability of the model proposed non-significant hazards consideration published on October 2, 2006 (71 FR 58444), as part of the Consolidated Line Item Improvement Process, “Notice of Availability of the Model Safety Evaluation.” The licensee has concluded that the findings presented in that evaluation are applicable to PNP and is hereby referenced below:

Criterion 1—The Proposed Change Does Not Involve a Significant Increase in the Probability or Consequences of an Accident Previously Evaluated

The proposed change allows a delay time for entering a supported system technical specification (TS) when the inoperability is due solely to an unavailable barrier if risk is assessed and managed. The postulated initiating events which may require a functional barrier are limited to those with low frequencies of occurrence, and the overall TS system safety function would still be available for the majority of anticipated challenges. Therefore, the probability of an accident previously evaluated is not significantly increased, if at all. The consequences of an accident while relying on the allowance provided by proposed LCO 3.0.9 are no different than the consequences of an accident while relying on the TS required actions in effect without the allowance provided by proposed LCO 3.0.9. Therefore, the consequences of an accident previously evaluated are not significantly affected by this change. The addition of a requirement to assess and manage the risk introduced by this change will further minimize possible concerns.

Therefore, this change does not involve a significant increase in the probability or consequences of an accident previously evaluated.

Criterion 2—The Proposed Change Does Not Create the Possibility of a New or Different Kind of Accident from any Previously Evaluated

The proposed change does not involve a physical alteration of the plant (no new or different type of equipment will be installed). Allowing delay times for entering supported system TS when inoperability is due solely to an unavailable barrier, if risk is assessed and managed, will not introduce new failure modes or effects and will not, in the absence of other unrelated failures, lead to an accident whose consequences exceed the consequences of accidents previously evaluated. The addition of a requirement to assess and manage the risk introduced by this change will further minimize possible concerns.

Thus, this change does not create the possibility of a new or different kind of accident from an accident previously evaluated.

Criterion 3—The Proposed Change Does Not Involve a Significant Reduction in the Margin of Safety.

The proposed change allows a delay time for entering a supported system TS when the inoperability is due solely to an unavailable barrier, if risk is assessed and managed. The postulated initiating events which may require a functional barrier are limited to those with low frequencies of occurrence, and the overall TS system safety function would still be available for the majority of anticipated challenges. The risk impact of the proposed TS changes was assessed following the three-tiered approach recommended in RG 1.177. A bounding risk assessment was performed to justify the proposed TS changes. This application of LCO 3.0.9 is predicated upon the licensee's performance of a risk assessment and the management of plant risk. The net change to the margin of safety is insignificant as indicated by the anticipated low levels of associated risk (ICCDP and ICLERP) as shown in Table 1 of Section 3.1.1 in the Safety Evaluation.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William Dennis, Assistant General Counsel, Entergy Nuclear Operations, Inc., 440 Hamilton Ave., White Plains, NY 10601.

NRC Branch Chief: Robert D. Carlson.

Omaha Public Power District, Docket No. 50-285, Fort Calhoun Station, Unit 1, Washington County, Nebraska

Date of amendment request: August 16, 2013.

Description of amendment request: The proposed amendment would revise the design basis method in the Fort Calhoun Station Updated Safety Analysis Report for controlling the raw water intake cell level during periods of elevated river levels.

Basis for proposed no significant hazards consideration determination: As required by 10 CFR 50.91(a), the licensee has provided its analysis of the issue of no significant hazards consideration, which is presented below:

1. Does the proposed amendment involve a significant increase in the probability or consequences of an accident previously evaluated?

Response: No.

The proposed modification engineering change (EC) 55394, Raw Water [RW] Pump Operation and Safety Classification of Components during a Flood, installed intake cell flood water inlet valves at Fort Calhoun Station (FCS). The modification would employ the trash rack blowdown portion of the circulating water system to allow river water to flow into four of those pipes and then through four newly installed safety class valves for control of cell level (RW pump suction level) using river level as the driving force. This modification EC 55394 enhances the flood protection provided to the RW pumps for an external flooding event thus assuring the availability of the ultimate heat sink and core cooling. As such, the proposed change does not increase the consequences of an accident previously evaluated.

In addition, implementing this strategy eliminates the need for the exterior sluice gates to be safety class and allows for continuous control of the intake cell level during a design basis flood event. The proposed Updated Safety Analysis Report (USAR) changes for implementing modification EC 55394 allow for maintaining RW pump operation during a flooding event at FCS.

Therefore, the proposed change does not involve a significant increase in the probability or consequences of an accident previously evaluated.

2. Does the proposed amendment create the possibility of a new or different kind of accident from any accident previously evaluated?

Response: No.

The proposed modification EC 55394 to provide control of the intake cell level by operation of the manual valves and the associated USAR changes do not alter the safety limits or safety analysis assumptions associated with the operation of the plant. Hence, the proposed changes do not introduce any new accident initiators, nor do they reduce or adversely affect the capabilities of any plant structure or system in the performance of their safety function. The proposed amendment revises the USAR to include the necessary information to support the implementation of the modification allowing for maintaining RW pump operation during an abnormal operating procedure AOP-01 flooding event at FCS.

Therefore, the proposed change does not create the possibility of a new or different kind of accident from any previously evaluated.

3. Does the proposed amendment involve a significant reduction in a margin of safety?

Response: No.

The proposed modification, which provides control of the intake cell level by operation of the manual valves, and the associated USAR changes do not alter the safety limits or safety analysis assumptions associated with the operation of the plant. The proposed modification and associated USAR revisions ensure there is adequate protection to the RW pumps from an external flood hazard thus assuring adequate protection during a flood. Providing RW pump intake cell level control during flooding conditions allows for adjustment of flow and control of the intake cell level throughout the duration of the flood since the new valves are located inside the intake structure; thereby ensuring the RW pumps remain operable during a flood condition and will not adversely impact any margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Southern Nuclear Operating Company, Inc. Docket Nos. 52-025 and 52-026, Vogtle Electric Generating Plant, Units 3 and 4, Burke County, Georgia

Date of amendment request: November 21, 2013.

Description of amendment request: The proposed change would amend Combined License Nos. NPF-91 and NPF-92 for the Vogtle Electric Generating Plant (VEGP) Units 3 and 4 by departing from the approved AP1000 Design Control Document (DCD) Tier 2 information as incorporated into the Updated Final Safety Analysis Report (UFSAR) to allow use of a new methodology to determine the effective thermal conductivity resulting from oxidation of the inorganic zinc (IOZ) used in the containment vessel coating system.

Basis for proposed no significant hazards consideration determination: As required by 10 CFR 50.91(a), the licensee has provided its analysis of the issue of no significant hazards consideration, which is presented below:

1. Does the proposed amendment involve a significant increase in the probability or consequences of an accident previously evaluated?

Response: No.

Implementation of a methodology which specifies an effective thermal conductivity and oxidation progression for the inorganic zinc coating of the containment vessel is used to eliminate non-mechanistic modeling of inorganic zinc thermal conductivity in the containment integrity analyses to show that the value for inorganic zinc thermal conductivity used in the containment integrity analyses is conservative, but is not used to change any of the parameters used in those analyses. There is no change to any accident initiator or condition of the containment that would affect the probability of any accident. The containment peak pressure analysis as reported in the UFSAR is not affected; therefore, the previously reported consequences are not affected.

Therefore, the proposed amendment does not involve an increase in the probability or consequences of an accident previously evaluated.

2. Does the proposed amendment create the possibility of a new or different kind of accident from any accident previously evaluated?

Response: No.

The proposed amendment to implement a methodology which specifies an effective thermal conductivity and oxidation progression and effects for the inorganic zinc coating of the containment vessel is used to eliminate non-mechanistic modeling of inorganic zinc thermal conductivity in the containment integrity analyses to show that the value for inorganic zinc thermal conductivity used in the containment integrity analyses is conservative, but is not used to change any of the parameters used in the containment peak pressure analysis. The change in methodology does not change the condition of containment; therefore, no new accident initiator is created. The containment peak pressure analysis as currently evaluated is not affected, and the consequences previously reported are not changed. The new methodology does not change the containment; therefore, no new fault or sequence of events that could lead to containment failure or release of radioactive material is created.

Therefore, the proposed amendment does not create the possibility of a new or different kind of accident.

3. Does the proposed amendment involve a significant reduction in a margin of safety?

Response: No.

The proposed implementation of a methodology which specifies an effective thermal conductivity and oxidation progression and effects for the inorganic zinc coating of the containment vessel is used to eliminate non-mechanistic modeling of inorganic zinc thermal conductivity in the containment integrity analyses to show that the value for inorganic zinc thermal conductivity used in the containment integrity analyses is conservative, but is not used to change any of the parameters used in the containment peak pressure analysis. The change in methodology does not change the condition of the containment and the integrity of the containment vessel is not affected. The containment peak pressure analysis as currently evaluated is not affected, and the consequences previously reported are not changed. No safety analysis or design basis acceptance limit/criterion is changed by the proposed change, thus no margin of safety is reduced.

Therefore, the proposed amendment does not reduce the margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Lawrence J. Burkhart.

Union Electric Company, Docket No. 50-483, Callaway Plant, Unit 1, Callaway County, Missouri

Date of amendment request: December 6, 2013.

Description of amendment request: The amendment would add a new pipe crack exclusion allowance to Final Safety Analysis Report (FSAR) Standard Plant Section 3.6.2.1.2.4, “ASME [American Society of Mechanical Engineers] Section III and Non-Nuclear Piping-Moderate-Energy,” and FSAR Standard Plant Table 3.6-2, “Design Comparison to Regulatory Positions of Regulatory Guide 1.46, Revision 0, dated May 1973, titled `Protection Against Pipe Whip Inside Containment,' ” in particular regard to the high-density polyethylene (HDPE) piping installed in ASME Class 3 line segments of the essential service water (ESW) system. New Reference 25 would be added to FSAR Standard Plant Section 3.6.3 to cite the NRC-approved version of the HDPE requirements covered by Relief Request I3R-10.

Basis for proposed no significant hazards consideration determination: As required by 10 CFR 50.91(a), the licensee has provided its analysis of the issue of no significant hazards consideration, which is presented below:

1. Does the proposed change involve a significant increase in the probability or consequences of an accident previously evaluated?

Response: No.

There are no new design changes associated with the proposed amendment. All design, material, and construction standards that were applicable prior to this amendment request, including those standards in place following the NRC approval of using the HDPE piping, will continue to be applicable.

The proposed change will not increase the likelihood of accident initiators or precursors or adversely alter the design assumptions, conditions, and configuration of the facility or the manner in which the plant is operated and maintained with respect to such initiators or precursors.

The proposed changes do not affect the way in which safety-related systems perform their functions.

All accident analysis acceptance criteria will continue to be met with the proposed changes. The proposed changes will not affect the source term, containment isolation, or radiological release assumptions used in evaluating the radiological consequences of an accident previously evaluated. The proposed changes will not alter any assumptions or change any mitigation actions in the radiological consequence evaluations in the FSAR.

The applicable radiological dose acceptance criteria will continue to be met.

Since the proposed change is based on a calculation that demonstrates that a moderate energy crack in the ESW HDPE piping is unlikely, there are no impacts on the plant's existing hazard analyses.

The proposed change does not physically alter safety-related systems or affect the way in which safety-related systems perform their functions per the intended plant design.

As such, the proposed change will not alter or prevent the capability of structures, systems, and components (SSCs) to perform their intended functions for mitigating the consequences of an accident and meeting applicable acceptance limits.

Therefore, the proposed change does not involve a significant increase in the probability or consequences of an accident previously evaluated.

2. Does the proposed change create the possibility of a new or different kind of accident from any accident previously evaluated?

Response: No.

With respect to any new or different kind of accident, there are no new design changes being proposed nor are there any changes in the method by which any safety-related plant SSC performs its specified safety function. The proposed change will not affect the normal method of plant operation. No new transient precursors will be introduced as a result of this amendment.

The HDPE piping design change was previously approved by the NRC under Relief Request I3R-10. The proposed change in this amendment request does not create the possibility of a new type of accident, rather the proposed change seeks to eliminate the need to postulate an existing type of hazard event (moderate energy piping leakage crack) for the subject HDPE piping which has been shown to experience such low stresses that such a crack, and the potential flooding for that hazard event, need not be postulated.

The change does not have a detrimental impact on the manner in which plant equipment operates or responds to an actuation signal.

The proposed change does not, therefore, create the possibility of a new or different accident from any accident previously evaluated.

3. Does the proposed change involve a significant reduction in a margin of safety?

Response: No.

There will be no effect on those plant systems necessary to assure the accomplishment of protection functions associated with reactor operation or the reactor coolant system. The design factor (DF) of 0.50 discussed in ULNRC-05553 dated October 9, 2008 has not changed. This DF was approved by the NRC in Relief Request 13R-10 (Reference 6.2 to this Evaluation). There will be no impact on the overpower limit, departure from nucleate boiling ratio (DNBR) limits, heat flux hot channel factor (FQ), nuclear enthalpy rise hot channel factor (FΔH), loss of coolant accident peak cladding temperature (LOCA PCT), peak local power density, or any other limit and associated margin of safety. Required shutdown margins in the COLR [core operating limits report] will not be changed. The proposed change does not eliminate any surveillances or alter the frequency of surveillances required by the Technical Specifications.

As such, the proposed change does not involve a significant reduction in a margin of safety as defined in any regulatory requirement or guidance document.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street NW., Washington, DC 20037.

NRC Branch Chief: Michael T. Markley.

Wolf Creek Nuclear Operating Corporation, Docket No. 50-482, Wolf Creek Generating Station, Coffey County, Kansas

Date of amendment request: November 21, 2013.

Description of amendment request: The amendment would revise the approved Fire Protection Program as described in the Updated Safety Analysis Report, based on the reactor coolant system thermal hydraulic response evaluation of a postulated control room fire, performed for changes to the alternative shutdown methodology.

Basis for proposed no significant hazards consideration determination: As required by 10 CFR 50.91(a), the licensee has provided its analysis of the issue of no significant hazards consideration, which is presented below:

1. Does the proposed amendment involve a significant increase in the probability or consequences of an accident previously evaluated?

Response: No.

The design function of structures, systems and components (SSCs) are not impacted by the proposed deviations from [10 CFR Part 50] Appendix R, Sections III.L.1 and III.L.2, and Calculation XX-E-013. The proposed changes to the approved fire protection program are based on the RCS [reactor coolant system] thermal-hydraulic response (Evaluation SA-08-006) for a postulated control room fire performed for changes to the alternative shutdown methodology outlined in letter SLNRC 84-0109, “Fire Protection Review.” Drawing E-1F9915, “Design Basis Document for OFN RP-017, Control Room Evacuation,” Revision 5, Evaluation SA-08-006, “RETRAN-3D Post-Fire Safe Shutdown (PFSSD) Consequence Evaluation for a Postulated Control Room Fire,” Revision 3, and Calculation WCNOC-CP-003, “VIPRE-01 MDNBR Analyses of Control Room Fire Scenarios,” Revision 0 demonstrate the adequacy of the revised alternative shutdown procedure, OFN RF-017. The proposed changes do not alter or prevent the ability of SSCs from performing their intended function to mitigate the consequences of an initiating event within the assumed acceptance limits.

Therefore, the probability of any accident previously evaluated is not increased. Equipment required to mitigate an accident remains capable of performing the assumed function.

2. Does the proposed amendment create the possibility of a new or different kind of accident from any accident previously evaluated?

Response: No.

The proposed changes will not alter the requirement or function for systems required during accident conditions. The design function of structures, systems and components are not impacted by the proposed change. Evaluation SA-08-006 and Calculation WCNOC-CP-003 determined natural circulation is maintained and adequate core cooling is maintained. The fission product boundary integrity is not affected and safe shutdown capability is maintained.

Therefore, the proposed change does not create the possibility of a new or different kind of accident from any accident previously evaluated.

3. Does the proposed amendment involve a significant reduction in a margin of safety?

Response: No.

There will be no effect on the manner in which safety limits or limiting safety system settings are determined nor will there be any effect on those plant systems necessary to assure the accomplishment of protection functions. The revised alternative shutdown methodology provides the ability to achieve and maintain safe shutdown in the event of a fire. Evaluation SA-08-006 and Calculation WCNOC-CP-003 determined natural circulation is maintained and adequate core cooling is maintained.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street NW., Washington, DC 20037.

NRC Branch Chief: Michael T. Markley.

Wolf Creek Nuclear Operating Corporation, Docket No. 50-482, Wolf Creek Generating Station, Coffey County, Kansas

Date of amendment request: December 17, 2013.

Description of amendment request: The amendment would revise Technical Specification Surveillance Requirement (SR) 3.7.10.1 and SR 3.7.13.1 to reduce the required run time for periodic operation of the control room pressurization system filter trains and emergency exhaust system filter trains, with heaters on, from 10 hours to 15 minutes. The proposed amendment is consistent with plant-specific options provided in the NRC's model safety evaluation of Technical Specifications Task Force (TSTF) Traveler TSTF-522-A, Revision 0, “Revise Ventilation System Surveillance Requirements to Operate for 10 hours per Month.”

Basis for proposed no significant hazards consideration determination: As required by 10 CFR 50.91(a), the licensee has provided its analysis of the issue of no significant hazards consideration, which is presented below:

1. Does the proposed change involve a significant increase in the probability or consequences of an accident previously evaluated?

Response: No.

The proposed change replaces existing Surveillance Requirements to operate the Control Room Emergency Ventilation System (CREVS) and the Emergency Exhaust System (EES) for a continuous 10 hour period with applicable heaters operating every 31 days, with requirements to operate these systems for 15 continuous minutes with applicable heaters operating every 31 days.

These systems are not accident initiators (i.e., their malfunction cannot initiate an accident or transient) and therefore, these changes do not involve a significant increase in the probability of an accident. The proposed system and filter testing changes are consistent with current regulatory guidance for these systems and will continue to assure that these systems perform their design function which may include mitigating accidents. Therefore, the change does not involve a significant increase in the consequences of an accident.

Therefore, it is concluded that this change does not involve a significant increase in the probability or consequences of an accident previously evaluated.

2. Does the proposed change create the possibility of a new or different kind of accident from any accident previously evaluated?

Response: No.

The change proposed for these ventilation systems does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The design basis for the ventilation system heaters in the EES and in the pressurization trains of the CREVS includes the capability to heat the incoming air, reducing the relative humidity (and thereby increasing adsorber efficiency). The heater testing change proposed will continue to demonstrate that the heaters are capable of heating the air and will thus perform their design function. The proposed change is consistent with regulatory guidance.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street NW., Washington, DC 20037.

NRC Branch Chief: Michael T. Markley.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Dominion Nuclear Connecticut, Inc., Docket No. 50-423, Millstone Power Station, Unit 3, New London County, Connecticut

Date of amendment request: October 4, 2012, as supplemented by letters dated January 4, April 17, and October 30, 2013.

Description of amendment request: The proposed amendment would modify Technical Specifications by relocating specific surveillance frequencies to a licensee controlled program with the adoption of Technical Specification Task Force (TSTF)-425, Revision 3, “Relocate Surveillance Frequencies to Licensee Control—[Risk-Informed Technical Specification Task Force (RITSTF)] Initiative 5b.” Additionally, the change would add a new program, the Surveillance Frequency Control Program (SFCP), to Technical Specification Section 6, Administrative Controls.

Date of issuance: February 25, 2014.

Effective date: As of the date of issuance, and shall be implemented within 90 days.

Amendment No.: 258.

Renewed Facility Operating License No. NPF-49: Amendment revised the License and Technical Specifications.

Date of initial notice in Federal Register: December 11, 2012 (77 FR 73687).

The supplemental letters dated January 4, 2013, April 17, 2013, and October 30, 2013, provided additional information that clarified the application, did not expand the scope of the application as originally noticed, and did not change the staff's original proposed no significant hazards consideration determination.

The Commission's related evaluation of the amendment is contained in a Safety Evaluation dated February 25, 2014.

No significant hazards consideration comments received: No.

Duke Energy Carolinas, LLC, Docket Nos. 50-369 and 50-370, McGuire Nuclear Station, Units 1 and 2, Mecklenburg County, North Carolina

Date of application for amendments: April 16, 2013.

Brief description of amendments: The amendments remove superseded temporary Technical Specification (TS) requirements for McGuire Nuclear Station (MNS), Units 1 and 2, in accordance with a licensee commitment described in a May 28, 2010, license amendment request.

Date of issuance: February 28, 2014.

Effective date: This license amendment is effective as of its date of issuance and shall be implemented within 60 days of issuance.

Amendment Nos.: 272 and 252.

Renewed Facility Operating License Nos. NPF-9 and NPF-17: Amendments revised the licenses and technical specifications.

Date of initial notice in Federal Register: June 25, 2013 (78 FR 38081).

The Commission's related evaluation of the amendments is contained in a Safety Evaluation dated February 28, 2014.

No significant hazards consideration comments received: No.

Duke Energy Carolinas, LLC, Docket Nos. 50-269, 50-270, and 50-287, Oconee Nuclear Station, Units 1, 2 and 3, Oconee County, South Carolina

Date of application for amendments: February 22, 2013, as supplemented on September 10, October 25, November 29, and December 16, 2013.

Brief description of amendments: The amendments revise Technical Specification (TS) 3.4.3, to replace its current reactor coolant system pressure-temperature (P-T) limits with new P-T limits applicable to 54 effective full power years. In addition, the amendments change the operational requirements for unit heatup and cooldown in TS Tables 3.4.3-1 and 3.4.3-2.

Date of Issuance: February 27, 2014.

Effective date: As of the date of issuance and shall be implemented within 60 days from the date of issuance.

Amendment Nos.: 384, 386, and 385.

Renewed Facility Operating License Nos. DPR-38, DPR-47, and DPR-55: Amendments revised the license and the TSs.

Date of initial notice in Federal Register: April 16, 2013, 78 FR 22568.

The supplemental letters dated September 10, October 25, November 29, and December 16, 2013, provided additional information that clarified the application, did not expand the scope of the application as originally noticed, and did not change the staff's original proposed no significant hazards consideration determination as published in the Federal Register.

The Commission's related evaluation of the amendments is contained in a Safety Evaluation dated February 27, 2014.

No significant hazards consideration comments received: No.

Duke Energy Progress Inc., Docket Nos. 50-325 and 50-324, Brunswick Steam Electric Plant, Units 1 and 2, Brunswick County, North Carolina.

Date of application for amendments: June 19, 2012, as supplemented by letters dated January 21, May 14, and August 29, 2013, and January 22, 2014.

Brief description of amendments: The amendments revised the Technical Specification (TS) to extend the Completion Time (CT) of TS 3.8.1 Required Action D.4 for an inoperable diesel generator. A commensurate change is also made to extend the maximum CT of TS 3.8.1 Required Actions C.3 and D.4. The licensee will to add a supplemental AC power source (i.e., a supplemental diesel generator) with the capability to power any emergency bus within 1 hour from a Station Blackout event, and with the capacity to bring the affected unit to cold shutdown.

Date of issuance: February 24, 2014.

Effective date: As of the date of issuance and shall be implemented prior to startup from the 2014 Unit 1 refueling outage.

Amendment Nos.: 264 and 292.

Facility Operating License Nos. DPR-62 AND DPR-71: Amendments revised the License and TSs.

Date of initial notice in Federal Register: October 16, 2013 (77 FR 63346).

The supplements dated January 21, May 14, and August 29, 2013, and January 22, 2014, provided additional information that clarified the application, did not expand the scope of the application as originally noticed, and did not change the staff's original proposed no significant hazards consideration determination as published in the Federal Register.

The Commission's related evaluation of the amendment is contained in a Safety Evaluation dated February 24, 2014.

No significant hazards consideration comments received: None.

Entergy Nuclear Operations, Inc., Docket No. 50-247, Indian Point Nuclear Generating, Unit 2, Westchester County, New York

Date of application for amendment: February 6, 2013, as supplemented by letters dated July 9, 2013, October 3, 2013, and February 24, 2014.

Brief description of amendment: The amendment changes the Technical Specifications by revising the reactor heatup and cooldown curves (also referred to as pressure-temperature (P-T) limits) and low temperature overpressure protection (LTOP) requirements to cover a lifetime burnup of 48 Effective Full Power Years (EFPY), which is an increase from the current value of 29.2 EFPY.

Date of issuance: March 5, 2014.

Effective date: As of the date of issuance, and shall be implemented within 30 days.

Amendment No.: 274.

Facility Operating License No. DPR-26: The amendment revised the License and the Technical Specifications.

Date of initial notice in Federal Register: April 2, 2013 (78 FR 19750).

The supplemental letters dated July 9, 2013, October 3, 2013, and February 24, 2014, provided additional information that clarified the application, did not expand the scope of the application as originally noticed, and did not change the NRC staff's original proposed no significant hazards consideration determination as published in the Federal Register.

The Commission's related evaluation of the amendment is contained in a Safety Evaluation dated March 5, 2014.

No significant hazards consideration comments received: No.

Florida Power and Light Company, Docket Nos. 50-250 and 50-251, Turkey Point Nuclear Generating, Units 3 and 4, Miami-Dade County, Florida

Date of application for amendment: March 22, 2013.

Brief description of amendment: The amendments revised the Technical Specifications (TSs) to allow the use of Optimized ZIRLO™ as an approved fuel rod cladding.

Date of issuance: February 20, 2014.

Effective date: As of the date of issuance and shall be implemented within 60 days of issuance.

Amendment No.: 259 and 254.

Renewed Facility Operating License Nos. DPR-31 and DPR-41: Amendments revised the licenses and the TSs.

Date of initial notice in Federal Register: August 20, 2013 (78 FR 51219).

The Commission's related evaluation of the amendments is contained in a Safety Evaluation dated February 20, 2014.

No significant hazards consideration comments received: No.

Luminant Generation Company LLC, Docket Nos. 50-445 and 50-446, Comanche Peak Nuclear Power Plant, Units 1 and 2 (CPNPP), Somervell County, Texas

Date of amendment request: August 29, 2013, as supplemented by letter dated February 19, 2014.

Description of amendment request: The amendments revised Technical Specification (TS) 3.4.17, “Steam Generator (SG) Tube Integrity,” TS 5.5.9, “Unit 1 Model D76 and Unit 2 Model D5 Steam Generator (SG) Program,” and TS 5.6.9, “Unit 1 Model D76 and Unit 2 Model D5 Steam Generator Tube Inspection Report.” The changes address implementation issues associated with inspection periods, and address other administrative changes and clarifications. The amendment is consistent with NRC-approved Technical Specifications Task Force (TSTF) change traveler TSTF-510, Revision 2, “Revision to Steam Generator Program Inspection Frequencies and Tube Sample Selection,” as part of the consolidated line item improvement process.

The amendments also incorporated minor non-technical variations from the TS changes proposed in TSTF-510, Revision 2. The TSs for CPNPP, Units 1 and 2 utilize different numbering and titles than the Standard Technical Specifications on which TSTF-510, Revision 2, is based, since the steam generators for CPNPP, Units 1 and 2, are of different models. These differences are administrative in nature and do not affect the applicability of TSTF-510, Revision 2, to the TSs for CPNPP, Units 1 and 2.

Date of issuance: February 27, 2014.

Effective date: As of its date of issuance and shall be implemented within 90 days from the date of issuance.

Amendment No.: Unit 1—161; Unit 2—161.

Facility Operating License Nos. NPF-87 and NPF-89: The amendments revised the Facility Operating Licenses and Technical Specifications.

Date of initial notice in Federal Register: October 1, 2013 (78 FR 60324).

The February 19, 2014, supplement did not expand the scope of the application as originally noticed, and did not change the NRC staff's initial proposed finding of no significant hazards consideration.

The Commission's related evaluation of the amendment is contained in a Safety Evaluation dated February 27, 2014.

No significant hazards consideration comments received: No.

NextEra Energy Seabrook, LLC, Docket No. 50-443, Seabrook Station, Unit. 1, Rockingham County, New Hampshire

Date of amendment request: June 25, 2013.

Description of amendment request: The amendment revised the Seabrook Technical Specifications (TS). Specifically, the amendment revised the TS to allow the use of Optimized ZIRLO™ as an approved fuel rod cladding material.

Date of issuance: March 5, 2014.

Effective date: As of its date of issuance and shall be implemented within 60 days.

Amendment No.: 139.

Facility Operating License No. NPF-86: The amendment revised the License and TS.

Date of initial notice in Federal Register: August 20, 2013 (78 FR 51228).

The Commission's related evaluation of the amendment is contained in a Safety Evaluation dated March 5, 2014.

No significant hazards consideration comments received: No.

Northern States Power Company—Minnesota (NSPM), Docket No. 50-263, Monticello Nuclear Generating Plant, Wright County, Minnesota

Date of application for amendment: April 19, 2013.

Brief description of amendment: The amendment allows NSPM to adopt the NRC's approved Technical Specifications Task Force (TSTF) Standard Technical Specifications Change Traveler TSTF-535, Revision 0, “Revise Shutdown Margin Definition to Address Advanced Fuel Designs,” dated August 8, 2011. The amendment modifies the Technical Specification definition of “shutdown margin” (SDM) to require calculation of the SDM at a reactor moderator temperature of 68 °F or higher, representing the most reactive state throughout the operating cycle. This change addresses newer boiling-water reactor fuel designs which may be more reactive at shutdown temperatures above 68 °F.

Date of issuance: February 28, 2014.

Effective date: This license amendment is effective as of the date of issuance and shall be implemented within 90 days from the date of issuance.

Amendment No.: 179.

Renewed Facility Operating License No. DPR-22: The amendment revises the Renewed Facility Operating License and Technical Specifications.

Date of initial notice in Federal Register: September 3, 2013 (78 FR 54285).

The Commission's related evaluation of the amendment is contained in a Safety Evaluation dated February 28, 2014.

No significant hazards consideration comments received: No.

Pacific Gas and Electric Company, Docket Nos. 50-275 and 50-323, Diablo Canyon Nuclear Power Plant, Units 1 and 2, San Luis Obispo County, California

Date of amendment request: June 6, 2013.

Description of amendment request: The amendments revised Technical Specification (TS) 3.7.10, “Control Room Ventilation System (CRVS),” and TS 5.6.5, “Core Operating Limits Report (COLR),” to incorporate editorial changes. Specifically, the proposed amendments delete footnote (1) from the TS 3.7.10 Condition A Completion Time, and revise inconsistent wording in TS 5.6.5a.4, TS 5.6.5a.5, and TS 5.6.5a.9.

Date of issuance: February 27, 2014.

Effective date: As of its date of issuance and shall be implemented within 60 days from the date of issuance.

Amendment Nos.: Unit 1—217; Unit 2—219.

Facility Operating License Nos. DPR-80 and DPR-82: The amendments revised the Facility Operating Licenses and Technical Specifications.

Date of initial notice in Federal Register: August 6, 2013 (78 FR 47791).

The Commission's related evaluation of the amendments is contained in a Safety Evaluation dated February 27, 2014.

No significant hazards consideration comments received: No.

PPL Susquehanna, LLC, Docket Nos. 50-387 and 50-388, Susquehanna Steam Electric Station, Units 1 and 2, Luzerne County, Pennsylvania

Date of application for amendments: June 6, 2013, as supplemented by letter dated December 4, 2013.

Brief description of amendments: The amendments change the Technical Specifications (TSs) for Susquehanna Steam Electric Station, Units 1 and 2. Specifically, these amendments change TS 3.3.6.1, “Primary Containment Isolation Instrumentation,” to add a footnote to Function 6.c. in TS Table 3.3.6.1-1, allowing only one Trip System to be operable in MODES 4 and 5 for the Manual Initiation Function for Shutdown Cooling System isolation.

Date of issuance: February 26, 2014.

Effective date: As of the date of issuance and shall be implemented within 30 days.

Amendment Nos.: 259 and 240.

Renewed Facility Operating License Nos. NPF-14 and NPF-22: The amendments revised the license and the TS.

Date of initial notice in Federal Register: December 10, 2013 (78 FR 74184).

The supplemental letter dated December 4, 2013, provided additional information that clarified the application, did not expand the scope of the application as originally noticed, and did not change the staff's original proposed no significant hazards consideration determination as published in the Federal Register.

The Commission's related evaluation of the amendments is contained in a Safety Evaluation dated February 26, 2014.

No significant hazards consideration comments received: No.

South Carolina Electric and Gas Company, South Carolina Public Service Authority, Docket No. 50-395, Virgil C. Summer Nuclear Station, Unit, Fairfield County, South Carolina

Date of application for amendment: April 2, 2013 as supplemented by letter dated May 16, 2013.

Brief description of amendment: This amendment revises the Technical Specifications requirements regarding steam generator tube inspections and reporting as described in TSTF-510, Revision 2, “Revision to Steam Generator Program Inspection Frequencies and Tube Sample Selection.”

Date of issuance: February 28, 2014.

Effective date: This license amendment is effective as of the date of its issuance.

Amendment No.: 196.

Renewed Facility Operating License No. NPF-12: Amendment revises the License.

Date of initial notice in Federal Register: June 25, 2013 (78 FR 38083).

The Commission's related evaluation of the amendment is contained in a Safety Evaluation dated February 28, 2014.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Duke Energy Carolinas, LLC, et al., Docket Nos. 50-413 and 50-414, Catawba Nuclear Station, Units 1 and 2, York County, South Carolina

Date of amendment request: February 17, 2014.

Description of amendment request: The amendments revise Technical Specification (TS) Table 3.3.4-1, Remote Shutdown System Instrumentation and Controls as a result of an inoperable instrumentation function on Unit 2. Table 3.3.4-1 specifies requirements for Function 3.b., Decay Heat Removal via Steam Generators (SGs)—Reactor Coolant System (RCS) Cold Leg Temperature—Loop A and B as “1 per loop”. Loop A of this function is presently inoperable on Unit 2 due to a failed resistance temperature detector (RTD). Loop B of this function is operable with a reliable maintenance history. The failed RTD on Loop A cannot be replaced in the present operating mode of Unit 2 (Mode 1). Therefore, Duke Energy requested the U.S. Nuclear Regulatory Commission (NRC) approval to allow Unit 2 to remain in Mode 1 until such time that the failed RTD can be replaced. The replacement would occur in the next refueling outage or the next outage that would facilitate replacement, whichever occurs first.

Date of issuance: February 27, 2014.

Effective date: As of the date of issuance and shall be implemented within 30 days from the date of issuance.

Amendment Nos.: 272 and 268.

Renewed Facility Operating License Nos. NPF-35 and NPF-52: Amendments revised the licenses and the technical specifications.

Public comments requested as to proposed no significant hazards consideration (NSHC): Yes. The NRC staff noticed the February 17, 2014, application in the Rock Hill, SC local newspaper, The Herald on Friday, February 21, 2014, and Saturday, February 22, 2014. The notice provided an opportunity to submit comments on the Commission's proposed NSHC determination. No comments have been received.

The Commission's related evaluation of the amendment, finding of exigent circumstances, state consultation, and final NSHC determination are contained in a safety evaluation dated February 27, 2014.

Attorney for licensee: Lara S. Nichols, Associate General Counsel, Duke Energy Corporation, 526 South Church Street—EC07H, Charlotte, NC 28202.

NRC Branch Chief: Robert J. Pascarelli.

Dated at Rockville, Maryland, this 10th day of March 2014.
For the Nuclear Regulatory Commission.
Michele G. Evans,
Director, Division of Operating Reactor Licensing, Office of Nuclear Reactor Regulation.

[FR Doc. 2014-05645 Filed 3-17-14; 8:45 am]

BILLING CODE 7590-01-P